DEPARTMENT OF ENERGY

Federal Energy Regulatory Commission

Combined Notice of Filings #1

Take notice that the Commission received the following electric rate filings:

Docket Numbers: ER14-1656-010.

Applicants: CSOLAR IV West, LLC.

Description: Notification of Change in Status of CSOLAR IV West, LLC.

Filed Date: 3/9/17.

Accession Number: 20170309-5116.

Comments Due: 5 p.m. ET 3/30/17.

Docket Numbers: ER17-756-001.

Applicants: Midcontinent Independent System Operator, Inc.

Description: Tariff Amendment: 2017-03-07_SA 2884 Amendment of Otter Tail-Crowned Ridge GIA (G736) to be effective 1/7/2017.

Filed Date: 3/7/17.

Accession Number: 20170307-5155.

Comments Due: 5 p.m. ET 3/28/17.

Docket Numbers: ER17-1123-000.

Applicants: PJM Interconnection, L.L.C.

Description: § 205(d) Rate Filing: Amendment to Service Agreements re: MAIT Assignment—Partially Executed Consents to be effective 7/17/2008.

Filed Date: 3/8/17.

Accession Number: 20170308-5174.

Comments Due: 5 p.m. ET 3/29/17.

Docket Numbers: ER17-1124-000.

Applicants: Consumers Energy Company.

Description: Compliance filing: Compliance with Letter Order to be effective 10/7/2016.

Filed Date: 3/9/17.

Accession Number: 20170309-5078.

Comments Due: 5 p.m. ET 3/30/17.

Docket Numbers: ER17-1125-000.

Applicants: The Order of St. Benedict of New Hampshire.

Description: § 205(d) Rate Filing: Notice of Name Change to be effective 12/31/9998.

Filed Date: 3/9/17.

Accession Number: 20170309-5082.

Comments Due: 5 p.m. ET 3/30/17.

Docket Numbers: ER17-1127-000.

Applicants: Public Service Company of Oklahoma.

Description: § 205(d) Rate Filing: PSO-OGE Cemetery Road Delivery Point Agreement to be effective 2/22/2017.

Filed Date: 3/9/17.

Accession Number: 20170309-5147.

Comments Due: 5 p.m. ET 3/30/17.

Docket Numbers: ER17-1128-000.

Applicants: AEP Texas North Company.

Description: § 205(d) Rate Filing: TNC-White Camp Solar PDA Cancellation to be effective 3/1/2017.

Filed Date: 3/9/17.

Accession Number: 20170309-5148.

Comments Due: 5 p.m. ET 3/30/17.

Docket Numbers: ER17-1129-000.

Applicants: Duke Energy Progress, LLC, Duke Energy Florida, LLC, Duke Energy Carolinas, LLC.

Description: § 205(d) Rate Filing: OATT Attachment C-1 Intra-Day Amendment to be effective 6/1/2017.

Filed Date: 3/9/17.

Accession Number: 20170309-5154.

Comments Due: 5 p.m. ET 3/30/17.

Docket Numbers: ER17-1130-000.

Applicants: AEP Texas Central Company.

Description: § 205(d) Rate Filing: TCC-Petronila Wind Farm PDA Cancellation to be effective 3/1/2017.

Filed Date: 3/9/17.

Accession Number: 20170309-5158.

Comments Due: 5 p.m. ET 3/30/17.

Docket Numbers: ER17-1131-000.

Applicants: AEP Texas Central Company.

Description: § 205(d) Rate Filing: TCC-Midway Farms Wind PDA Cancellation to be effective 3/1/2017.

Filed Date: 3/9/17.

Accession Number: 20170309-5165.

Comments Due: 5 p.m. ET 3/30/17.

Docket Numbers: ER17-1132-000.

Applicants: California Independent System Operator Corporation.

Description: § 205(d) Rate Filing: 2017-03-09 Tariff Clarifications Amendment to be effective 3/10/2017.

Filed Date: 3/9/17.

Accession Number: 20170309-5169.

Comments Due: 5 p.m. ET 3/30/17.

Docket Numbers: ER17-1133-000.

Applicants: AEP Texas Central Company.

Description: § 205(d) Rate Filing: TCC-Javelina Wind Energy SUA Cancellation to be effective 3/1/2017.

Filed Date: 3/9/17.

Accession Number: 20170309-5171.

Comments Due: 5 p.m. ET 3/30/17.

Docket Numbers: ER17-1134-000.

Applicants: AEP Texas Central Company.

Description: § 205(d) Rate Filing: TCC-EC&R Development PDA Cancellation to be effective 3/1/2017.

Filed Date: 3/9/17.

Accession Number: 20170309-5176.

Comments Due: 5 p.m. ET 3/30/17.

Docket Numbers: ER17-1135-000.

Applicants: AEP Texas Central Company.

Description: § 205(d) Rate Filing: TCC-Anacacho Wind SUA Cancellation to be effective 3/1/2017.

Filed Date: 3/9/17.

Accession Number: 20170309-5180.

Comments Due: 5 p.m. ET 3/30/17.

Docket Numbers: ER17-1136-000.

Applicants: AEP Texas North Company.

Description: § 205(d) Rate Filing: TNC-Blue Summit Wind SUA Cancellation to be effective 3/1/2017.

Filed Date: 3/9/17.

Accession Number: 20170309-5187.

Comments Due: 5 p.m. ET 3/30/17.

Take notice that the Commission received the following electric reliability filings.

Docket Numbers: RD17-4-000.

Applicants: North American Electric Reliability Corporation.

Description: Petition of the North American Electric Reliability Corporation for Approval of Proposed Reliability Standards IRO-002-5 and TOP-001-4.

Filed Date: 3/6/17.

Accession Number: 20170306-5233.

Comments Due: 5 p.m. ET 4/5/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 9, 2017.
Nathaniel J. Davis, Sr.,
Deputy Secretary.

[FR Doc. 2017-05698 Filed 3-21-17; 8:45 am]

BILLING CODE 6717-01-P